DEPARTMENT OF COMMERCE

Economic Development Administration

Agency Information Collection Activities; Submission to the Office of Management and Budget (OMB) for Review and Approval; Comment Request; Requirements for Approved Construction Investments

AGENCY: Economic Development Administration, Department of Commerce

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before January 6, 2025.

ADDRESSES: Interested persons are invited to submit written comments to Jeff Roberson, Chief Counsel, U.S. Department of Commerce, via email at jroberson@eda.gov or via phone at (202) 482-1315. You may also submit comments to PRAcomments@doc.gov. Please reference OMB Control Number 0610-0096 in the subject line of your comments. Do not submit Confidential Business Information or otherwise sensitive or protected information.

FOR FURTHER INFORMATION CONTACT: Requests for additional information or specific questions related to collection activities should be directed to Jeff Roberson, Chief Counsel, Economic Development Administration, U.S. Department of Commerce, via email at jroberson@eda.gov or via phone at (202) 482-1315.

SUPPLEMENTARY INFORMATION:

I. Abstract

The Economic Development Administration (EDA) leads the Federal economic development agenda by promoting innovation and competitiveness, preparing American regions for growth and success in the worldwide economy. Guided by the basic principle that sustainable economic development should be locally driven, EDA works directly with communities and regions to help them build the capacity for economic development based on local business conditions and needs. The Public Works and Economic Development Act of 1965 (PWEDA) (42 U.S.C. 3121 et seq.) is EDA's organic authority and is the primary legal authority under which EDA awards financial assistance. Under PWEDA, EDA provides financial assistance to both rural and urban distressed communities by fostering entrepreneurship, innovation, and productivity through investments in infrastructure development, capacity building, and business development to attract private capital investments and new and better jobs to regions experiencing economic distress. Further information on EDA programs and financial assistance opportunities can be found at www.eda.gov.

To effectively administer and monitor its economic development assistance programs, EDA collects certain information from applications for, and recipients of, EDA investment assistance. EDA may award assistance for construction projects through its Public Works and Economic Adjustment Assistance (EAA) programs. Public Works program investments help support the construction or rehabilitation of essential public infrastructure and facilities necessary to generate or retain private sector jobs and investments, attract private sector capital, and promote vibrant economic ecosystems, regional competitiveness, and innovation. The EAA program provides a wide range of technical, planning, and infrastructure assistance in regions experiencing adverse economic changes that may occur suddenly or over time.

EDA seeks comments from the public and other Federal agencies on a proposed revision and extension of the series of checklists and templates that constitute EDA's post-approval tool for construction projects. These checklists and templates, as well as any special conditions incorporated into the terms and conditions at the time of award, supplement the requirements that apply to EDA-funded construction projects.

II. Method of Collection

The checklists and templates are collected via both paper and electronic submissions. These checklists and templates, as well as any special conditions incorporated into the terms and conditions at the time of award, supplement the requirements that apply to EDA-funded construction projects.

As a part of this renewal process, EDA plans to make clarifying edits to the series of checklists and templates, thereby facilitating timely completion by the award recipient and approval by EDA. Additionally, EDA developed a collection to help recipients comply with the requirements of the Build America, Buy America provisions of the Infrastructure and Investment Jobs Act (Pub. L. 117-58); updated the environmental narrative form required for all construction projects; and developed a new version of its existing property reporting requirements to accommodate situations unique to Tribal recipients. None of the edits are expected to increase the time burden on the respondent nor do the modifications change the type of collected information.

III. Data

OMB Control Number: 0610-0096.

Form Number(s): None.

Type of Review: Regular submission; Revision and extension of a currently approved collection.

Affected Public: Recipients of EDA construction (Public Works or Economic Assistance Adjustment) awards, including (1) cities or other political subdivisions of a state, including a special purpose unit of state or local government engaged in economic or infrastructure development activities, or a consortium of political subdivisions; (2) states; (3) institutions of higher education or a consortium of institutions of higher education; (4) public or private non-profit organizations or associations; (5) District Organizations; and (6) Indian Tribes or a consortia of Indian Tribes.

Estimated Number of Respondents: 3,500.

Estimated Time per Response: 2 hours.

Estimated Total Annual Burden Hours: 7,000 hours.

Estimated Total Annual Cost to Public: $480,200 (cost assumes application of U.S. Bureau of Labor Statistics September 2024 hourly employer costs for employee compensation for professional and related occupations of $68.60).

Respondent's Obligation: Mandatory.

Legal Authority: The Public Works and Economic Development Act of 1965 (42 U.S.C. 3121 et seq.)

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Clearance Officer, Office of the Under Secretary for Economic Affairs, Commerce Department.

[FR Doc. 2024-25901 Filed 11-6-24; 8:45 am]

BILLING CODE 3510-24-P